DEPARTMENT OF LABOR

Office of the Secretary

Submission for OMB review; Comment Request

October 30, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King on (202) 693-4129 or E-mail: King-Darrin@dol.gov.

Comments should be sent to Office of Information and Regulatory Affairs, Attn: Stuart Shapiro, OMB Desk Officer for OSHA, Office of Management and Budget, 725 17th Street, Room 10235, Washington, DC 20503 ((202) 395-7316), within 30 days from the date of this publication in the Federal Register.

The OMB is particularly interested in comments which:

• evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title: Underground Construction Standard.

OMB Number: 1218-0067.

Affected Public: Business or other for-profit.

Frequency: On occasion.

Type of Response: Recordkeeping and Third-party disclosure.

Number of Respondents: 323.

Total Annualized Capital/Startup Costs: $0.

Total Annual Costs (operating/maintaining systems or purchasing services): $117,000.

Requirement | Number of annual responses | Average response time [hours] | Estimated burden hours
Posting Warning Signs and Notices | 1,132 | .08 | 91
Certifying Inspection Records for Hoists | 323 | 1 | 323
Recordkeeping for Air-Quality Tests—Big-Bore Projects
Continuous-Monitor Records | 15,000 | .008 | 120
Simultaneous-Monitor Records | 37,500 | .017 | 638
Serial-Monitor Records | 37,500 | .05 | 1,875
Recordkeeping for Air-Quality Tests—Small- and Medium-Bore Projects, Projects with Conventionally-Bored Tunnels
Continuous-Monitor Records | 43,250 | .008 | 346
Simultaneous-Monitor Records | 108,125 | .017 | 1,838
Serial-Monitor Records | 108,125 | .05 | 5,406
Recordkeeping for Air-Quality Tests—Small- and Medium-Bore Projects, Projects That Bore with Microtunneling Equipment
Continuous-Monitor Records | 21,750 | .008 | 174
Simultaneous-Monitor Records | 21,750 | .017 | 369
Serial-Monitor Records | 21,750 | .05 | 1,088
Recordkeeping for Air-Quality Tests—Gassy Projects
Continuous-Monitor Records | 27,000 | .008 | 216
Recordkeeping for Air-Quality Tests—Monitor Calibration
Continuous-Monitor Measurements | 107,000 | .17 | 18,190
Serial- or simultaneous-Monitor Measurements | 334,750 | .08 | 26,780
Maintaining Check—In/Check-Out Procedures | 323 | .03 | 10
Total: | 885,278 |  | 57,464

Description: 29 CFR 1926.800 requires underground construction employers to certify hoist inspections; post various warning signs; and keep a record of air test results to identify decreasing oxygen levels or potentially hazardous concentrations of air contaminants in order to take corrective action prior to attaining hazardous conditions.

Agency: Occupational Safety and Health Administration (OSHA).

Type of Review: Revision of a currently approved collection.

Title: Steel Erection—Subpart R, 29 CFR part 1926.750 through 1926.761.

OMB Number: 1218-0241.

Affected Public: Business or other for-profit; Federal Government; and State, Local or Tribal Government.

Frequency: On occasion.

Type of Response: Recordkeeping and Third-party disclosure.

Total Annualized Capital/Startup Costs: $0.

Total Annual Costs (operating/maintaining systems or purchasing services): $0.

Requirement | Number of projects | Frequency per project | Responses | Average response time [hours] | Estimated burden hours
1926.752(a)(1) | 14,551 | 3 | 43,653 | .083333 | 3,638
1926.752.(a)(2) | 6,860 | 1 | 6,860 | .083333 | 572
1926.755(b)(1) | 3,534 | 1 | 3,534 | 3 | 10,602
1926.753(c)(5) | 17,129 | 10 | 171,290 | .083333 | 14,274
1926.753(e)(2) | 2,061 | 2 | 4,122 | .083333 | 343
1926.754(c)(3) | 0 | 0 | 0 | 0 | 0
1926.757(a)(4) | 856 | 1 | 856 | .083333 | 71
1926.757(a)(7) | 856 | 1 | 856 | .083333 | 71
1926.757(a)(9) & 1926.758 (g) | 1,713 | 1 | 1,713 | 0.5 | 857
1926.757(e)(4)(I) | 343 | 1 | 343 | .083333 | 29
1926.760(e) & (e)(1) | 19,748 | 1 | 19,748 | .016666 | 329
1926.761 | 0 | 0 | 0 | 0 | 0
Paragraph (c)(4)(iii) of Appendix G | 0 | 0 | 0 | 0 | 0
Total: | 67,651 |  | 252,975 |  | 30,786

Description: Subpart R, 29 CFR Part 1926.750 through 1926.761, requires notification to designated parties, especially steel erectors, that building materials components, steel structures and fall-protection equipments are safe for specific uses and ensure that employees exposed to fall hazards receive specific training in the recognition and control of fall hazards.

Ira L. Mills,
Departmental Clearance Officer.

[FR Doc. 01-27808 Filed 11-5-01; 8:45 am]

BILLING CODE 4510-26-M